DEPARTMENT OF COMMERCE

National Institute of Standards and Technology

[Docket No.: 000911256-0256-01]

RIN 0693-ZA40

Small Grant Programs

AGENCY: National Institute of Standards and Technology, Commerce.

ACTION: Notice; correction.

SUMMARY: The National Institute of Standards and Technology (NIST) published a document in the Federal Register on January 11, 2001, announcing the availability of 2001 Funds for: (1) Precision Measurements Grants—Availability of Funds; (2) Physics Laboratory (PL) 2001 Summer Undergraduate Research Fellowships (SURF); (3) Materials Science and Engineering Laboratory (MSEL) 2001 Summer Undergraduate Research Fellowships (SURF); (4) Manufacturing Engineering Laboratory (MEL) 2001 Summer Undergraduate Research Fellowships (SURF); (5) Information Technology Laboratory (ITL) 2001 Summer Undergraduate Research Fellowships (SURF); (6) Building and Fire Research Laboratory (BFRL) 2001 Summer Undergraduate Research Fellowships (SURF); (7) Electronics and Electrical Engineering Laboratory (EEEL) 2001 Summer Undergraduate Research Fellowships (SURF); (8) Materials Science and Engineering Laboratory (MSEL) Grants Program—Availability of Funds; (9) Fire Research Grants Program—Availability of Funds; (10) Physics Laboratory (PL) Grants Program—Availability of Funds; (11) Chemical Science and Technology Laboratory (CSTL) Grants Program—Availability of Funds; (12) Manufacturing Engineering Laboratory (MEL) Grants Program—Availability of Funds; and (13) Electronics and Electrical Engineering Laboratory (EEEL) Grants Program—Availability of Funds. This document contains corrected dates for the Precision Measurement Grants Program and corrected contact information for the Materials Science and Engineering Laboratory Grants Programs.

FOR FURTHER INFORMATION CONTACT: For the Precision Measurement Grants Program, technical questions should be submitted to: Dr. Peter J. Mohr, Chairman, NIST Precision Measurement Grants Committee, National Institute of Standards and Technology, Bldg. 225, Rm. B161, 100 Bureau Drive, Stop 8401, Gaithersburg, MD 20899-8401, Tel: (301) 975-3217, E-mail: mohr@nist.gov. Website: http://physics.nist.gov/pmg.

For the MSEL Grants Program, contact Ms. Marlene Taylor, National Institute of Standards and Technology, 100 Bureau Drive, Stop 8501, Building 223, Room A305, Gaithersburg, MD 20899-8501, Tel: (301) 975-5653, E-mail marlene.taylor@nist.gov.

Correction

In the Federal Register issue of January 11, 2001, in FR Doc. 01-836, on page 2399, in the third column, correct the DATES caption to read:

DATES: Applicants for the Precision Measurement Grants Program must submit an abbreviated proposal for preliminary screening. Based on the merit of the abbreviated proposal, applicants will be advised whether a full proposal should be submitted. The abbreviated proposals must be received at the address listed below no later than the close of business February 15, 2001. The semi-finalists will be notified of their status by April 6, 2001, and will be requested to submit full proposals to NIST by close of business on May 25, 2001. NIST expects to issue awards on or before September 30, 2001.

In the Federal Register issue of January 11, 2001, in FR Doc. 01-836, on page 2403, in the third column, correct the fourth paragraph of the Program Description and Objectives caption to read:

III. Metallurgy Division, 855—The primary objective is to develop techniques to predict, measure and control transformations, phases, microstructure and kinetic processes as well as mechanical, physical and chemical properties in metals and their alloys. The contact person for this division is Dr. Richard J. Fields and he may reached at (301) 975-5712 or by e-mail at richard.fields@nist.gov.

Dated: January 17, 2001.
Karen H. Brown,
Deputy Director.

[FR Doc. 01-2122 Filed 1-23-01; 8:45 am]

BILLING CODE 3510-13-M